DEPARTMENT OF AGRICULTURE

Forest Service

Plumas National Forest; Beckwourth Ranger District, California; Beckwourth Ranger District Tall Whitetop Project

AGENCY: Forest Service, USDA.

ACTION: Withdrawal of Notice of intent to prepare an Environmental Impact Statement.

SUMMARY: On May 9, 2006, Federal Register (Volume 71, Number 89, [Page 26921-26923]), the USDA Forest Service, Plumas National Forest announced its intent to prepare an Environmental Impact Statement (EIS) to eradicate populations of the noxious weed tall whitetop (Lepidium Iatifoliuin), along the Middle Fork of the Feather River. The proposed Federal action in this EIS was to use a three-step process to ensure the successful eradication of tallwhite top. One of the steps involved the use of herbicides. The EIS would have evaluated the environmental effects associated with these actions and any reasonable alternatives.

The notice of intent to prepare an EIS is withdrawn. The Plumas National Forest will continue the NEPA process by preparing an Environmental Assessment to evaluate the environmental effects of a new proposed action.

FOR FURTHER INFORMATION CONTACT: Michael Friend, P.O. Box 7, Blairsden, CA 96103; 530-836-7161; rnjfriend@fs.fed.us.

Individuals who use telecommunication devices for the deaf (TDD) may call the Federal Information Relay Service (FIRS) at 1-800-877-8339 between 8 a.m. and 8 p.m., Eastern Time, Monday through Friday.

SUPPLEMENTARY INFORMATION:

Project Location

The project area is one-mile southwest of the town of Beckwourth, T23N, RI4E Sec. 26, 27, 28, and 29. It is comprised of the river corridor on either side of the junction of county road A-23 and highway 70.

Lead Agency: The USDA Forest Service is the lead agency for this proposal. Responsible Official: Beckwourth Ranger District Acting District Ranger, George C Garcia is the responsible official. Beckwourth Ranger District, P.O. Box 7, Blairsden, CA 96103.

Dated: February 23, 2009.
George C Garcia,
Acting District Ranger.

[FR Doc. E9-4445 Filed 3-3-09; 8:45 am]

BILLING CODE 3410-11-M